FEDERAL ELECTION COMMISSION

Sunshine Act Notice

AGENCY: Federal Election Commission,

DATE & TIME: Thursday, October 6, 2011 at 10 a.m.

PLACE: 999 E Street, NW., Washington, DC (Ninth Floor)

STATUS: This meeting will be open to the public.

ITEMS TO BE DISCUSSED:

Correction and Approval of the Minutes for the Meetings of September 1 and 22, 2011.

Agency Procedure Following the Submission of Probable Cause Briefs by the Office of General Counsel.

Draft Advance Notice of Proposed Rulemaking for Internet Communication Disclaimers.

Draft Advisory Opinion 2011-18: Western Representation PAC Management and Administrative Matters.

Individuals who plan to attend and require special assistance, such as sign language interpretation or other reasonable accommodations, should contact Shawn Woodhead Werth, Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-25592 Filed 9-29-11; 4:15 pm]

BILLING CODE 6715-01-P